DEPARTMENT OF TRANSPORTATION

Federal Aviation Administration

14 CFR Part 39

[Docket No. FAA-2006-24667; Directorate Identifier 2006-NM-009-AD; Amendment 39-14746; AD 2006-18-08]

RIN 2120-AA64

Airworthiness Directives; Goodyear Aviation Tires, Part Number 217K22-1, Installed on Various Transport Category Airplanes, Including But Not Limited to Bombardier Model BD-700-1A10 and BD-700-1A11 Airplanes; and Gulfstream Model G-1159, G-1159A, G-1159B, G-IV, GIV-X, GV, and GV-SP Series Airplanes

AGENCY: Federal Aviation Administration (FAA), Department of Transportation (DOT).

ACTION: Final rule.

SUMMARY: The FAA is adopting a new airworthiness directive (AD) for certain aviation tires installed on various transport category airplanes. This AD requires a one-time inspection of the nosewheel tires to determine if they are within a designated serial number range, and replacement if necessary. This AD results from reports of tread separations and tread-area bulges on the nosewheel tires. We are issuing this AD to prevent tread separation from a nosewheel tire during takeoff or landing, which could result in compromised nosewheel steering or ingestion of separated tread by an engine, and consequent reduced controllability of the airplane on the runway or in the air.

DATES: This AD becomes effective October 11, 2006.

The Director of the Federal Register approved the incorporation by reference of a certain publication listed in the AD as of October 11, 2006.

ADDRESSES: You may examine the AD docket on the Internet at http://dms.dot.gov or in person at the Docket Management Facility, U.S. Department of Transportation, 400 Seventh Street, SW., Nassif Building, Room PL-401, Washington, DC.

Contact Goodyear Tire and Rubber Company, 1144 E. Market Street, Akron, OH 44316-0001, for service information identified in this AD.

FOR FURTHER INFORMATION CONTACT: Nick Miller, Aerospace Engineer, Systems and Flight Test Branch, ACE-117C, Chicago Aircraft Certification Office, FAA, 2300 East Devon Avenue, Room 107, Des Plaines, IL 60018; telephone (847) 294-7518; fax (847) 294-7834.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain aviation tires installed on various transport category airplanes. That NPRM was published in the Federal Register on May 3, 2006 (71 FR 25987). That NPRM proposed to require a one-time inspection of the nosewheel tires to determine if they are within a designated serial number range, and replacement if necessary.

Comments

We provided the public the opportunity to participate in the development of this AD. We have considered the comments received.

Support for the NPRM

Two commenters, both private citizens, state that they support the NPRM.

Requests To Revise Cost Estimate

The same commenters request that we revise the cost estimate in the NPRM. Both commenters state that in their experience the inspection to determine the serial number of the tire would take much less time than the one hour given for that action in the NPRM. The commenters state that the inspection should take only 10 to 15 minutes. One commenter points out that the removal and replacement of the affected tires would take 1 to 2 hours, depending on the current status of the airplane and other variables.

We partially agree. We agree that the inspection may take less than 1 hour. We disagree that it is necessary to change the cost estimate for the inspection to 10 to 15 minutes rather than 1 hour. We provide these estimates in order to give airplane operators notice of the costs they are likely to incur to do the actions specifically required by the AD. To account for the worst-case cost for each operator, we generally round dollar and hour figures to the next-highest value.

We also disagree with the request to change the cost estimate to include the replacement cost. The replacement is an “on condition” action, and may or may not be required for a given airplane. The cost figures discussed in NPRMs represent only the time necessary to perform the specific actions actually required by the AD; in this case, the inspection. These figures also do not typically include incidental costs, such as the time required to gain access and close up, planning time, or time necessitated by other administrative actions.

We have not changed the final rule in this regard.

Requests To Revise Compliance Time

The same commenters both request that we revise the compliance time for doing the inspection from 60 days to 30 days. The commenters point out that Goodyear Aviation Service Bulletin SB-2005-32-004, Revision 5, dated December 22, 2005 (referred to in the NPRM as the appropriate source of service information for accomplishing the actions), recommends a compliance time of 14 days, which leads one commenter to believe that this is a serious problem and should be a safety concern for Gulfstream and Bombardier owners. One commenter says that even though the NPRM states that most operators have already complied with the service bulletin, that does not mean it is time to ease up on the others' safety. The other commenter points out that it doesn't take long to inspect the tire and determine the serial number. The commenters both cite serious aviation accidents related to blown tires, and state that the potential serious consequences also justify a shorter compliance time.

We acknowledge the commenters' concerns. However, we do not agree with the request to revise the compliance time. In developing an appropriate compliance time, we considered the safety implications, parts availability, and normal maintenance schedules. Further, the manufacturer agreed with the proposed compliance time, and now reports that of the 142 affected tires, 25 have been returned in accordance with the instructions in Goodyear Aviation Service Bulletin SB-2005-32-004, Revision 5. We also note that Gulfstream reports 90 percent compliance and Bombardier reports 82 percent compliance as of the closing date for comments on the NPRM. In addition, if we were to shorten the compliance time, it would be necessary for us to issue a supplemental NPRM to solicit additional public comment on the new, shorter compliance time. The additional time for comment would add at least 45 days to the total time it will take for the NPRM to become a final rule and thereby add 45 days more before the tires would be required to be inspected. Therefore, we have not changed the final rule in this regard.

Explanation of Additional Service Information

Bombardier has informed us that it has issued two service bulletins that give additional service information for identifying the affected serial numbers and replacing the tires as applicable. We have reviewed and added the following service bulletins to Note 1 of the final rule: Bombardier Alert Service Bulletins A700-32-019 and A700-1A11-32-007, both dated November 2, 2005.

Conclusion

We have carefully reviewed the available data, including the comments received, and determined that air safety and the public interest require adopting the AD with the change described previously. We have determined that this change will neither increase the economic burden on any operator nor increase the scope of the AD.

Costs of Compliance

There are about 1,282 Gulfstream airplanes and about 104 Bombardier airplanes that use the affected tires in the worldwide fleet. This AD will affect about 1,035 Gulfstream airplanes, and about 104 Bombardier airplanes of U.S. registry. The inspection for the affected serial numbers takes about 1 work hour per airplane, at an average labor rate of $80 per work hour. Based on these figures, the estimated cost of the AD for U.S. operators is $91,120, or $80 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-18-08 Transport Category Airplanes: Amendment 39-14746. Docket No. FAA-2006-24667; Directorate Identifier 2006-NM-009-AD.

Effective Date

(a) This AD becomes effective October 11, 2006.

Affected ADs

(b) None.

Applicability

(c) This AD applies to Goodyear aviation tires, part number 217K22-1, identified in Goodyear Aviation Service Bulletin SB-2005-32-004, Revision 5, dated December 22, 2005; installed on various transport category airplanes, certificated in any category, including but not limited to Bombardier Model BD-700-1A10 and BD-700-1A11 airplanes, and Gulfstream Model G-1159, G-1159A, G-1159B, G-IV, G-IV-X, G-V, and G-V-SP series airplanes.

Unsafe Condition

(d) This AD results from reports of tread separations and tread-area bulges on the nosewheel tires. We are issuing this AD to prevent tread separation from a nosewheel tire during takeoff or landing, which could result in compromised nosewheel steering or ingestion of separated tread by an engine, and consequent reduced controllability of the airplane on the runway or in the air.

Compliance

(e) You are responsible for having the actions required by this AD performed within the compliance times specified, unless the actions have already been done.

Inspection To Determine Serial Number (S/N), and Replacement

(f) Within 60 days after the effective date of this AD: Inspect the nosewheel tires to determine whether an affected S/N is installed, in accordance with the Accomplishment Instructions of Goodyear Aviation Service Bulletin SB-2005-32-004, Revision 5, dated December 22, 2005; and, except as provided by paragraph (g) of this AD, replace any tire with an affected S/N before further flight in accordance with the Accomplishment Instructions of the service bulletin.

Note 1: Bombardier Alert Service Bulletins A700-32-019 and A700-1A11-32-007, both dated November 2, 2005; and the Gulfstream alert customer bulletins listed in Table 1 of this AD are additional sources of service information for identifying the affected serial numbers and replacing the tires as applicable.

Table 1.—Gulfstream Alert Customer Bulletins
Gulfstream model | Alert customer bulletin | Date
G-1159 (GII) and G-1159B (G-IIB) series airplanes | 30 | October 12, 2005.
G-1159A (GIII) series airplanes | 16 | October 12, 2005.
G-IV airplanes | 34 | October 12, 2005.
G300 airplanes | 34 | October 12, 2005.
G400 airplanes | 34 | October 12, 2005.
GIV-X (G350) series airplanes | 3 | October 12, 2005.
GIV-X (G450) series airplanes | 3 | October 12, 2005.
GV series airplanes | 24 | October 12, 2005.
GV-SP (G500) series airplanes | 5 | October 12, 2005.
GV-SP (G550) series airplanes | 5 | October 12, 2005.

Special Flight Permit

(g) A special flight permit may be issued in accordance with sections 21.197 and 21.199 of the Federal Aviation Regulations (14 CFR 21.197 and 21.199) for one flight to operate the airplane to a location where the requirements of this AD can be accomplished, provided no bulge is present on the tire with the affected S/N.

Parts Installation

(h) After the effective date of this AD, no person may install on any airplane a nosewheel tire that has an S/N in the affected range identified in the Accomplishment Instructions of Goodyear Aviation Service Bulletin SB-2005-32-004, Revision 5, dated December 22, 2005.

No Parts Return Required

(i) Although Goodyear Aviation Service Bulletin SB-2005-32-004, Revision 5, dated December 22, 2005, specifies to return tires to the manufacturer, this AD does not require that action.

Actions Accomplished in Accordance With Original Issue of Service Bulletin

(j) Actions done before the effective date of this AD in accordance with Goodyear Aviation Service Bulletin SB-2005-32-004, dated October 11, 2005, are acceptable for compliance with the requirements of this AD.

Alternative Methods of Compliance (AMOCs)

(k)(1) The Manager, Chicago Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(l) You must use Goodyear Aviation Service Bulletin SB-2005-32-004, Revision 5, dated December 22, 2005, to perform the actions that are required by this AD, unless the AD specifies otherwise. The Director of the Federal Register approved the incorporation by reference of this document in accordance with 5 U.S.C. 552(a) and 1 CFR part 51. Contact Goodyear Tire and Rubber Company, 1144 E. Market Street, Akron, OH 44316-0001, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on August 23, 2006.
Kalene C. Yanamura,
Acting Manager, Transport Airplane Directorate, Aircraft Certification Service.

[FR Doc. E6-14636 Filed 9-5-06; 8:45 am]

BILLING CODE 4910-13-P